DEPARTMENT OF HEALTH AND HUMAN SERVICES

Substance Abuse and Mental Health Services Administration

Notice of Meeting of the Center for Substance Abuse Treatment National Advisory Council (CSAT NAC)

Notice is hereby given that the Substance Abuse and Mental Health Services Administration's (SAMHSA) Center for Substance Abuse Treatment (CSAT) National Advisory Council (NAC) will meet on August 27, 2024, 9:00 a.m.-5:00 p.m. (EDT).

The meeting is open to the public and can also be accessed virtually (best option since physical space is very restricted). The meeting will include consideration of minutes from the SAMHSA CSAT NAC meeting of February 27, 2024, a discussion with SAMHSA leadership, a discussion of the SAMHSA's Data Strategy, a discussion on infectious diseases, a discussion on harm reduction related issues, and a review of FY24 activities, as well as lookahead of FY25 activities. This meeting will also cover updates on CSAT activities from the Office of the Director; the Division of Pharmacologic Therapies; the Division of States and Community Systems; the Division of Services Improvement; the Office of Program Analysis and Coordination; and the Office of Performance Analysis and Management.

The meeting will be held at the Hubert H. Humphrey Building, 200 Independence Ave. SW, Washington, DC 20201. Attendance by the public will be limited to space available. Interested persons may present data, information, or views, orally or in writing, on issues pending before the Council. Presentations from the public will be scheduled at the conclusion of the meeting. Individuals interested in making oral presentations must notify the contact person, Tracy Goss, CSAT NAC Designated Federal Officer (DFO) on or before August 19, 2024. Up two minutes will be allotted for each public comment as time permits. Written comments received in advance of the meeting will be considered for inclusion in the official record.

Please register on-line at: https://snacregister.samhsa.gov, to attend either on site or virtually, submit written or brief oral comments, or request special accommodations for persons with disabilities. To communicate with the CSAT NAC DFO please see the contact information below.

Meeting information and a roster of Council members may be obtained by accessing the SAMHSA Committee website at https://www.samhsa.gov/about-us/advisory-councils/csat-national-advisory-council, or by contacting the DFO.

Council Name: SAMHSA's Center for Substance Abuse Treatment National Advisory Council.

Date/Time/Type: August 27, 2024, 9:00 a.m.-5:00 p.m. (EDT), OPEN.

Place: Hubert H. Humphrey Building, (405A), 200 Independence Ave. SW, Washington, DC 20201.

Contact: Tracy Goss, Designated Federal Officer, CSAT National Advisory Council, 5600 Fishers Lane, Rockville, Maryland 20857 (mail), Telephone: (240) 276-0759, Email: tracy.goss@samhsa.hhs.gov.

Authority: Public Law 92-463.

Dated: July 23, 2024.
Carlos Castillo,
Committee Management Officer, SAMHSA.

[FR Doc. 2024-16634 Filed 7-26-24; 8:45 am]

BILLING CODE 4162-20-P